INTERNATIONAL TRADE COMMISSION

[Investigation Nos. AA1921-197 (Second Review); 701-TA-319, 320, 325-328, 348, and 350 (Second Review); and 731-TA-573, 574, 576, 578, 582-587, 612, and 614-618 (Second Review)]

Certain Carbon Steel Products From Australia, Belgium, Brazil, Canada, Finland, France, Germany, Japan, Korea, Mexico, Poland, Romania, Spain, Sweden, Taiwan, and The United Kingdom

AGENCY: United States International Trade Commission.

ACTION: Revised schedule for the subject reviews.

DATES: Effective Date: September 20, 2006.

FOR FURTHER INFORMATION CONTACT: Michael Szustakowski (202-205-3188) or Douglas Corkran (202-205-3057), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these reviews may be viewed on the Commission's electronic docket (EDIS) at http://edis.usitc.gov.

SUPPLEMENTARY INFORMATION: Effective March 22, 2006, the Commission established a schedule for the conduct of the subject full reviews (71 FR 16178, March 30, 2006). Subsequently, counsel on behalf of domestic interested parties, IPSCO Steel, Inc., Mittal Steel, Nucor, and Oregon Steel Mills, requested that the Commission postpone its deadline for the filing of prehearing briefs for the cut-to-length plate portion of the reviews by one day. Counsel cited the burden of filing prehearing briefs on cut-to-length plate and corrosion-resistant steel on the same day.¹ No party to the reviews objected to the requested postponement. The Commission, therefore, is revising its schedule to incorporate this change to the schedule of the reviews.

¹ Correspondence of September 5, 2006, from Wiley Rein & Fielding, Schagrin Associates, and Stewart and Stewart.

The Commission's new schedule for the reviews is as follows: The deadline for filing prehearing briefs for the CTL steel plate portion of the reviews is October 6, 2006.

For further information concerning these reviews see the Commission's notice cited above and the Commission's Rules of Practice and Procedure, part 201, subparts A through E (19 CFR part 201), and part 207, subparts A, D, E, and F (19 CFR part 207).

Authority: These reviews are being conducted under authority of title VII of the Tariff Act of 1930; this notice is published pursuant to section 207.62 of the Commission's rules.

By order of the Commission.
Issued: September 26, 2006.
Marilyn R. Abbott,
Secretary to the Commission.

[FR Doc. E6-16230 Filed 10-2-06; 8:45 am]

BILLING CODE 7020-02-P